DEPARTMENT OF AGRICULTURE

Animal and Plant Health Inspection Service

[Docket No. APHIS-2017-0046]

Oral Rabies Vaccine Trial; Availability of a Supplement to an Environmental Assessment and Finding of No Significant Impact

AGENCY: Animal and Plant Health Inspection Service, USDA.

ACTION: Notice.

SUMMARY: We are advising the public that the Animal and Plant Health Inspection Service has prepared a supplement to an environmental assessment and finding of no significant impact relative to an oral rabies vaccination field trial in New Hampshire, New York, Ohio, Vermont, and West Virginia. Based on its finding of no significant impact, the Animal and Plant Health Inspection Service has determined that an environmental impact statement need not be prepared.

FOR FURTHER INFORMATION CONTACT: Mr. Richard Chipman, Rabies Program Coordinator, Wildlife Services, APHIS, 59 Chennell Drive, Suite 7, Concord, NH 03301; (603) 223-9623. To obtain copies of the supplement to the environmental assessment and the finding of no significant impact, contact Ms. Beth Kabert, Environmental Coordinator, Wildlife Services, 140-C Locust Grove Road, Pittstown, NJ 08867; (908) 735-5654, fax (908) 735-0821, email: beth.e.kabert@aphis.usda.gov.

SUPPLEMENTARY INFORMATION: The Wildlife Services (WS) program in the Animal and Plant Health Inspection Service (APHIS) cooperates with Federal agencies, State and local governments, and private individuals to research and implement the best methods of managing conflicts between wildlife and human health and safety, agriculture, property, and natural resources. Wildlife-borne diseases that can affect domestic animals and humans are among the types of conflicts that APHIS-WS addresses. Wildlife is the dominant reservoir of rabies in the United States.

On July 17, 2017, we published in the Federal Register (82 FR 32676-32677, Docket No. APHIS-2017-0046) a notice ¹ in which we announced the availability, for public review and comment, of a supplement to an environmental assessment (EA) that examined the potential environmental impacts associated with the proposed field trial to test the safety and efficacy of an experimental oral rabies vaccine (ORV) for wildlife in New Hampshire, New York, Ohio, Vermont, and West Virginia. In addition, the supplement analyzed the geographic shift of the ORV zone in Ohio and the addition of 17 counties in West Virginia so that baits can be applied to the western edge of the ORV zone in West Virginia.

¹ To view the notice, the EA, and the FONSI, go to http://www.regulations.gov/#!docketDetail;D=APHIS-2017-0046.

We solicited comments on the EA for 30 days ending August 16, 2017. We did not receive any comments.

In this document, we are advising the public of our finding of no significant impact (FONSI) relative to the ORV field trial in New Hampshire, New York, Ohio, Vermont, and West Virginia. The finding, which is based on the EA and the 2013, 2015, and 2017 supplements to the EA, reflects our determination that the distribution of this experimental wildlife rabies vaccine will not have a significant impact on the quality of the human environment.

The 2017 supplement to the EA and the FONSI may be viewed on the APHIS Web site at http://www.aphis.usda.gov/wildlifedamage/nepa and on the Regulations.gov Web site (see footnote 1). Copies of the 2017 supplement to the EA and the FONSI are also available for public inspection at USDA, Room 1141, South Building, 14th Street and Independence Avenue SW., Washington, DC, between 8 a.m. and 4:30 p.m., Monday through Friday, except holidays. Persons wishing to inspect copies are requested to call ahead on (202) 799-7039 to facilitate entry into the reading room. In addition, copies may be obtained as described under FOR FURTHER INFORMATION CONTACT.

The 2017 supplement to the EA and the FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 6th day of September 2017.
Michael C. Gregoire,
Acting Administrator, Animal and Plant Health Inspection Service.

[FR Doc. 2017-19227 Filed 9-11-17; 8:45 am]

BILLING CODE 3410-34-P